DEPARTMENT OF ENERGY

Federal Energy Regulatory Commission

[Docket No. CP00-127-000]

Transcontinental Gas Pipe Line Corporation; Notice of Application

March 23, 2000.

Take notice that on March 16, 2000, Transcontinental Gas Pipe Line Corporation (Transco), Post Office Box 1396, Houston, Texas 77251, filed an application for a certificate of public convenience and necessity authorizing Transco to construct and operate certain facilities at its Compressor Station No. 120 in Henry County, Georgia in order to comply with the Clean Air Act Amendments of 1990, all as more fully set forth in the application on file with the Commission and open to public inspection. This filing may be viewed on the web at http://www.ferc.fed.us/online/rims.htm (call 202-208-2222 for assistance).

Transco proposes to modify several of its existing reciprocating engines at Compressor Station No. 120 (Station 120) in order to comply with the State of Georgia plan to implement the Clean Air Act Amendments of 1990. Station 120 has 18 units including 15 reciprocating/compressor units, one Solar Centaur gas turbine, and two 12,000 HP Ansaldo electric motor driven centrifugal compressor units. The facilities at Station 120 are located within a fenced area of approximately 20 acres.

Transco states that it plans to install turbochargers and associated equipment on 8 of the 15 reciprocating engines in order to reduce NOX emissions. Transco plans to modify the existing turbochargers at the other 7 reciprocating units to increase their capacity and install associated equipment in order to reduce NOX emissions. Transco states that the 8 engines which will have turbochargers installed will have the potential to perform above their current operating horsepower. However, since Station 120 is automated, Transco says that it has the ability to shut down other engines or reduce its load to ensure that the station will not operate above the station's total certificated horsepower. Since Transco will install these turbochargers at Station 120 solely to achieve an environmental improvement, i.e., lower NOX emissions, Transco states that it has no intent or need to operate the station above its certificated horsepower. Therefore, when Transco installs these turbochargers at Station 120 Transco states that it will adjust the automation program at the station so that it will not operate above its certificated horsepower.

At the other 7 engines, Transco states that modification of the existing turbochargers to increase their capacity will not create the potential of these engines performing above their current operating horsepower because the engines are already operating at maximum horsepower and cannot operate at a higher horsepower output. Accordingly, Transco emphasizes that there will be no increase in the capacity of Transco's system in the vicinity of the station as a result of installing the 8 new turbochargers and modifying the 7 existing turbochargers.

Transco estimates that the proposed modifications will cost $25.4 million.

Transco states that it needs to commence the work at Station 120 on May 15, 2000 in order to complete the work on a timely basis with respect to the requirements of the Clean Air Act Amendments of 1990 and the state implementation plan, while at the same time accommodating the operational needs of its pipeline system and ensuring that Transco's gas service obligations are met. Accordingly, Transco requests that the Commission issue a certificate of public convenience and necessity by May 15, 2000.

Any questions regarding this application should be directed to Alfred E. White, Jr., Senior Attorney, Transcontinental Gas Pipe Line Corporation, P.O. Box 1396, Houston, Texas 77251 14203 at (713) 215-2000.

Any person desiring to be heard or to make a protest with reference to said application should on or before April 13, 2000, file with the Federal Energy Regulatory Commission, 888 First Street, N.E., Washington, D.C. 20426, a motion to intervene or a protest in accordance with the requirements of the Commission's Rules of Practice and Procedure (18 CFR 385.211 or 385.214) and the regulations under the Natural Gas Act (NGA) (18 CFR 157.10). All protests filed with the Commission will be considered by it in determining the appropriate action to be taken but will not serve to make the protestants parties to the proceeding. Any person wishing to become a party to a proceeding or to participate as a party in any hearing therein must file a motion to intervene in accordance with the Commission's rules.

A person obtaining intervener status will be placed on the service list maintained by the Commission and will receive copies of all documents issued by the Commission, filed by the applicant, or filed by all other interveners. An intervener can file for rehearing of any Commission order and can petition for court review of any such order. However, an intervener must submit copies of comments or any other filing it makes with the Commission to every other intervener in the proceeding, as well as 14 copies with the Commission.

A person does not have to intervene, however, in order to have comments considered. A person, instead, may submit two copies of comments to the Secretary of the Commission. Commenters will be placed on the Commission's environmental mailing list, will receive copies of environmental documents and be able to participate in meetings associated with the Commission's environmental review process. Commenters will not required to serve copies of filed documents on all other parties. However, commenters will not receive copies of all comments filed by other parties or issued by the Commission and not have the right to seek rehearing or appeal the Commission's final order to a federal court.

The Commission will consider all comments and concerns equally, whether filed by commenters or those requesting intervener status.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Transco to appear or be represented at the hearing.

Linwood A. Watson, Jr.,
Acting Secretary.

[FR Doc. 00-7671 Filed 3-28-00; 8:45 am]

BILLING CODE 6717-01-M